DEPARTMENT OF JUSTICE

[OMB Number 1110-0055]

Agency Information Collection Activities; Proposed eCollection; eComments Requested; National Instance Criminal Background Check System Section

AGENCY: Federal Bureau of Investigation, Department of Justice.

ACTION: 30-day notice.

SUMMARY: Department of Justice (DOJ), Federal Bureau of Investigation, Criminal Justice Information Services Division will be submitting the following information collection request to the Office of Management and Budget (OMB) for review and approval in accordance with the Paperwork Reduction Act of 1995. This proposed information collection was previously published in the Federal Register, allowing for a 60 day comment period.

DATES: Comments are encouraged and will be accepted for an additional 30 days until June 30, 2017.

Written comments and/or suggestions regarding the items contained in this notice, especially the estimated public burden and associated response time, should be directed to the Federal Bureau of Investigation, Criminal Justice Information Services Division, National Instance Criminal Background Check System Section, Module A-3, 1000 Custer Hollow Road, Clarksburg, West Virginia 26306, or email NICS@ic.fbi.gov Attention: OMB PRA 1110-0055. Written comments and/or suggestions can also be sent to the Office of Management and Budget, Office of Information and Regulatory Affairs, Attention Department of Justice Desk Officer, Washington, DC 20503 or sent to OIRA_submissions@omb.eop.gov.

SUPPLEMENTARY INFORMATION: Written comments and suggestions from the public and affected agencies concerning the proposed collection of information are encouraged. Your comments should address one or more of the following four points:

—Evaluate whether the proposed collection of information is necessary for the proper performance of the functions of the agency, including whether the information will have practical utility;

—Evaluate the accuracy of the agency's estimate of the burden of the proposed collection of information, including the validity of the methodology and assumptions used;

—Enhance the quality, utility, and clarity of the information to be collected; and

—Minimize the burden of the collection of information on those who are to respond, including through the use of appropriate automated, electronic, mechanical, or other technological collection techniques or other forms of information technology, e.g., permitting electronic submission of responses.

Overview of This Information Collection:

(1) Type of Information Collection: Extension of a currently approved collection.

(2) Title of the Form/Collection: The National Instance Criminal Background Check System (NICS) Checks by Criminal Justice Agencies

(3) Agency form number, if any, and the applicable component of the Department sponsoring the collection: Sponsoring component: Department of Justice, Federal Bureau of Investigation, Criminal Justice Information Services Division.

(4) Affected public who will be asked or required to respond, as well as a brief abstract: Primary: City, county, state, federal, and tribal law enforcement agencies. Abstract: In November 1993, the Brady Handgun Violence Prevention Act of 1993 (Brady Act), Pub. L. 103-159, was signed into law and required Federal Licensees (FFL) to request background checks on individuals attempting to purchase a firearm. The permanent provisions of the Brady Act, which went into effect on November 30, 1998, required the United States Attorney General to establish the NICS whereas FFLs may contact by telephone or other electronic means in addition to telephone for information to be supplied within three business days on whether the receipt of a firearm by a prospective transferee would violate 18 U.S.C. 922(g) or 18 U.S.C. 922(n), or state law. There are additional authorized uses of the NICS found at 28 CFR 25.6(j). The FBI authorized the CJAs to initiate a NICS check to assist their transfer of firearms to private individuals as a change to 28.CFR 25.6(j) in 78 FR 5757, January 28, 2013.

(5) An estimate of the total number of respondents and the amount of time estimated for an average respondent to respond/reply: It is estimated the time burden associated with this collection is 3 minutes per transaction, depending on the individual circumstances. The total annual respondent entities taking advantage of this disposition process is 18,000 CJAs.

(6) An estimate of the total public burden (in hours) associated with the collection: It is estimated the burden associated with this collection is 3 minutes per transaction depending on individual circumstances. If each of the 18,000 respondents conducted three dispositions with this authority per year at 3 minutes per check, then it is anticipated the business burden would be 2,700 hours per year.

If additional information is required contact: Melody Braswell, Department Clearance Officer, United States Department of Justice, Justice Management Division, Policy and Planning Staff, Two Constitution Square, 145 N Street NE., Suite 3E.405B, Washington, DC 20530.

Dated: May 25, 2017.
Melody Braswell,
Department Clearance Officer, PRA, U.S. Department of Justice.

[FR Doc. 2017-11113 Filed 5-30-17; 8:45 am]

BILLING CODE 4410-02-P